FEDERAL TRADE COMMISSION

SES Performance Review Board

AGENCY: Federal Trade Commission.

ACTION: Notice.

SUMMARY: Notice is hereby given of the appointment of members to the FTC Performance Review Board.

FOR FURTHER INFORMATION CONTACT: Karen Leydon, Chief Human Capital Officer, 600 Pennsylvania Avenue, NW., Washington, DC 20580, (202) 326-3633.

SUPPLEMENTARY INFORMATION: Publication of the Performance Review Board (PRB) membership is required by 5 U.S.C. 4314(c)(4). The PRB reviews and evaluates the initial appraisal of a senior executive's performance by the supervisor, and makes recommendations regarding performance ratings, performance awards, and pay-for-performance pay adjustments to the Chairman.

The following individuals have been designated to serve on the Commission's Performance Review Board:

Eileen Harrington, Executive Director, Chair.

Willard K. Tom, General Counsel.

Pauline M. Ippolito, Deputy Director, Bureau of Economics.

Richard A. Feinstein, Director, Bureau of Competition.

Jessica L. Rich, Deputy Director, Bureau of Consumer Protection.

By direction of the Commission.
Richard C. Donohue,
Acting Secretary.

[FR Doc. 2011-21021 Filed 8-17-11; 8:45 am]

BILLING CODE 6750-01-M